ENVIRONMENTAL PROTECTION AGENCY

[FRL-6736-2]

Middlefield-Ellis-Whisman Superfund Site Proposed Notice of Administrative Settlement

AGENCY: Environmental Protection Agency (EPA).

ACTION: Notice; request for public comment.

SUMMARY: In accordance with the Comprehensive Environmental Response, Compensation and Liability Act of 1980, as amended by the Superfund Amendments and Reauthorization Act of 1986 (CERCLA), 42 U.S.C. 9600 et seq., notice is hereby given that a proposed Agreement and Covenant Not to Sue (Prospective Purchaser Agreement) associated with the Middlefield-Ellis-Whisman (MEW) Superfund Site was executed by the United States Environmental Protection Agency (EPA) on February 29, 2000. The proposed Prospective Purchaser Agreement would resolve certain potential claims of the United States under sections 106 and 107(a) of CERCLA, 42 U.S.C. 9606 and 9607(a) against Haury Properties IV, a California limited liability company (the Purchaser). The Purchaser plans to acquire a 1.17 acre parcel located at 405 National Avenue, Mountain View, California, within the MEW Superfund Site, for the purposes of redeveloping and leasing commercial office space. The proposed settlement would require the Purchaser to pay EPA a one-time payment of $75,000.

For thirty (30) calendar days following the date of publication of this notice, EPA will receive written comments relating to the proposed settlement. If requested prior to the expiration of this public comment period, EPA will provide an opportunity for a public meeting in the affected area. EPA's response to any comments received will be available for public inspection at the U.S. Environmental Protection Agency, 75 Hawthorne Street, San Francisco, CA 94105.

DATES: Comments must be submitted on or before August 14, 2000.

ADDRESSES: The proposed Prospective Purchaser Agreement and additional background documents relating to the settlement are available for public inspection at the U.S. Environmental Protection Agency, 75 Hawthorne Street, San Francisco, CA 94105. A copy of the proposed settlement may be obtained from William Keener, Assistant Regional Counsel (ORC-1), Office of Regional Counsel, U.S. EPA Region IX, 75 Hawthorne Street, San Francisco, CA 94105. Comments should reference “Haury Properties PPA, MEW Superfund Site” and “Docket No. 2000-05” and should be addressed to William Keener at the above address.

FOR FURTHER INFORMATION CONTACT: William Keener, Assistant Regional Counsel (ORC-1), Office of Regional Counsel, U.S. EPA Region IX, 75 Hawthorne Street, San Francisco, CA 94105; phone: (415) 744-1356; fax (415) 744-1041; e-mail: keener.bill@epa.gov.

Dated: July 7, 2000.
Keith Takata,
Director, Superfund Division, Region IX.

[FR Doc. 00-17874 Filed 7-13-00; 8:45 am]

BILLING CODE 6560-50-M